NUCLEAR REGULATORY COMMISSION

10 CFR Part 73

[NRC-2008-0019]

Notice of Public Webinar To Discuss the Applicability of 10 CFR 73.55 Requirements to Part 50 Licensees With Facilities in Decommissioning or Decommissioned Status

AGENCY: Nuclear Regulatory Commission (NRC).

ACTION: Notice of public Webinar.

SUMMARY: The NRC will hold a public Webinar with 16 Part 50 licensees in decommissioning or decommissioned status affected by the current requirements in Title 10 of the Code of the Federal Regulations (10 CFR) 73.55 (March 27, 2009; 74 FR 13925) and the other stakeholders. The purpose of this Webinar is to discuss the applicability of those security requirements to licensees with facilities in decommissioning or decommissioned status.

DATES: The public Webinar will be held on Tuesday July 20, 2010, from 1 p.m. to 3 p.m. (eastern daylight time).

ADDRESSES: You can access publicly available documents related to this notice using the following methods:

NRC's Public Document Room (PDR): The public may examine and have copied, for a fee, publicly available documents at the NRC's PDR, Public File Area O1 F21, One White Flint North, 11555 Rockville Pike, Rockville, Maryland.

Federal Rulemaking Web site: Supporting materials related to this notice can be found at http://www.regulations.gov by searching on Docket ID: NRC-2008-0019.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov. The power point presentation developed for the Webinar is under ADAMS Accession No. ML101410686.

FOR FURTHER INFORMATION CONTACT: Mike D'Ettore, Office of Nuclear Security and Incident Response, U.S. Nuclear Regulatory Commission, Washington, DC 20555-0001; e-mail: Michael.Dettore@nrc.gov; or (301) 415-0422.

SUPPLEMENTARY INFORMATION:

Background

The current 10 CFR 73.55 became effective on May 26, 2009, with compliance required by March 31, 2010. The NRC believes that Part 50 licensees with facilities in decommissioning or decommissioned status (e.g., a Part 50 licensee with a decommissioned facility or a Part 50 licensee that has only a general licensed Independent Spent Fuel Storage Installation (ISFSI) under 10 CFR 72.210 with no plant or a plant in decommissioning status) may not have recognized the applicability of this regulation to their facility. The purpose of this Webinar, therefore, is to clarify the applicability of the current 10 CFR 73.55 to all Part 50 licensees including those with facilities in decommissioning or decommissioned status.

Specifically, the NRC seeks to provide clarity that 10 CFR 73.55 does in fact apply to Part 50 licensees with decommissioned facilities or facilities in a decommissioning status. These licensees include those Part 50 licensees with a facility in decommissioning status and a Part 50 licensee with a general license ISFSI under 10 CFR 72.212 with no plant or a plant in decommissioned status. The desired outcome of this Webinar is a mutual understanding of the applicability of the Part 10 CFR 73.55 Regulations, as well as a path forward to ensure compliance by the affected licensee.

The NRC believes that there are currently no security or health and safety gaps at these facilities even as they may not be in compliance with the current 10 CFR 73.55 because the licensees' security programs meet the baseline requirements of the previous version of 10 CFR 73.55 and meet the requirements in subsequent security orders. In fact, the statement of considerations for this regulation notes (March 27, 2009; 74 FR 13925) that, with the exception of cyber security, the majority of security plan changes are likely minimal and are not likely to decrease the effectiveness of licensee's current plan; and some changes could require a license amendment or an exemption.

The NRC has not identified any specific questions for public and stakeholder input.

Availability of Documents

The following table indicates the related documents that are available to the public and how they may be obtained. See the ADDRESSES section of this document for information on the physical locations and Web sites to access these documents.

Document | PDR | Web | Electronic reading room (ADAMS)
Webinar Power Point Presentation | X | X | ML101410686

Dated at Rockville, Maryland, this 18th day of June 2010.
For the Nuclear Regulatory Commission.
Michael C. Layton,
Deputy Director, Division of Security Policy, Office of Nuclear Security and Incident Response.

[FR Doc. 2010-15627 Filed 6-25-10; 8:45 am]

BILLING CODE 7590-01-P